DEPARTMENT OF ENERGY

10 CFR Parts 850 and 851

[Docket No. EH-RM-03-WSH]

RIN 1901-AA99

Worker Safety and Health Program; Suspension of Rulemaking

AGENCY: Department of Energy (DOE).

ACTION: Proposed rule; notice of suspension.

SUMMARY: DOE today gives notice of the suspension of a rulemaking under the Atomic Energy Act of 1954 to promulgate worker health and safety regulations for DOE workplaces and procedures for the assessment of civil penalties for violations of standards under those regulations. Since DOE published its notice of proposed rulemaking on December 8, 2003 (68 FR 68276), DOE has become aware that the Defense Facilities Nuclear Safety Board (DFNSB), which has safety oversight responsibility with regard to DOE nuclear facilities, has concerns with regard to the proposed regulations. The purpose of today's notice of suspension is to allow time for DOE to consult with the DFNSB in order to resolve its concerns. DOE also will consider the concerns of other interested stakeholders as appropriate. Consistent with past practice, if DOE receives any significant communications from these other interested stakeholders yielding information not already in the comments that DOE has received, it will add those communications (or in the case of significant oral exchanges, memoranda summarizing those exchanges) to the public comment file in the DOE Freedom of Information Reading Room. The suspension will continue pending further notice by DOE.

FOR FURTHER INFORMATION CONTACT: Jacqueline D. Rogers, U.S. Department of Energy, 1000 Independence Avenue, SW., Washington, DC 20585-0270, 301-903-5684, e-mail, jackie.rogers@hq.doe.gov.

Issued in Washington, DC on February 23, 2004.
Beverly Cook,
Assistant Secretary, Environment, Safety and Health.

[FR Doc. 04-4359 Filed 2-26-04; 8:45 am]

BILLING CODE 6450-01-P